ENVIRONMENTAL PROTECTION AGENCY

[FRL-9911-38-OAR; EPA-HQ-OEI-2013-0807]

Privacy Act; Notification of a New System of Records Notice for the Engine and Vehicle Exemptions System (EV-ES)

AGENCY: Environmental Protection Agency.

ACTION: Notice.

SUMMARY: The Environmental Protection Agency's (EPA) Office of Air and Radiation, Office of Transportation and Air Quality, is giving notice that it proposes to create a new system of records pursuant to the provisions of the Privacy Act of 1974 (5 USC 552a). This system of records contains personally identifiable information (PII) collected from owners of motor vehicles who wish to temporarily import their vehicle into the United States for personal use and who are not residents of the United States.

DATES: Persons wishing to comment on this new system of records notice must do so by July 2, 2014.

ADDRESSES: Submit your comments, identified by Docket ID No. EPA-HQ-OEI-2013-0807, by one of the following methods:

• www.regulations.gov: Follow the on-line instructions for submitting comments.

• Email: oei.docket@epa.gov

• Fax: (202) 566-1752

• Mail: OEI Docket, Environmental Protection Agency, Mail code: 2822T, 1200 Pennsylvania Ave. NW., Washington, DC 20460.

• Hand Delivery: OEI Docket, EPA/DC, WJC West Building, Room 3334, 1301 Constitution Ave. NW., Washington, DC. Such deliveries are only accepted during the Docket's normal hours of operation, and special arrangements should be made for deliveries of boxed information.

Instructions: Direct your comments to Docket ID No. EPA-HQ-OEI-2013- 0807. EPA's policy is that all comments received will be included in the public docket without change and may be made available online at www.regulations.gov, including any personal information provided, unless the comment includes information claimed to be Confidential Business Information (CBI) or other information for which disclosure is restricted by statute. Do not submit information that you consider to be CBI or otherwise protected through www.regulations.gov. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available (e.g., CBI or other information for which disclosure is restricted by statute). Certain other material, such as copyrighted material, will be publicly available only in hard copy. Publicly available docket materials are available either electronically in www.regulations.gov or in hard copy at the OEI Docket, EPA/DC, WJC West Building, Room 3334, 1301 Constitution Ave. NW., Washington, DC. The Public Reading Room is open from 8:30 a.m. to 4:30 p.m., Monday through Friday excluding legal holidays. The telephone number for the Public Reading Room is (202) 566-1744, and the telephone number for the OEI Docket is (202) 566-1745.

FOR FURTHER INFORMATION CONTACT: Holly Pugliese, Compliance Division, Office of Transportation and Air Quality, U.S. Environmental Protection Agency, 2000 Traverwood, Ann Arbor, Michigan 48105; telephone number: 734-214-4288; fax number: 734-214-4869; email address: pugliese.holly@epa.gov.

SUPPLEMENTARY INFORMATION:

General Information

The U.S. Environmental Protection Agency (EPA) plans to create a Privacy Act system of records for the Engine and Vehicle Exemptions System (EV-ES). The information collected in this system supports the Imports Exemptions program under the Clean Air Act (CAA) and implementing regulations codified in 40 CFR Parts 85 and 1068. The CAA requires manufacturers of motor vehicles and engines to design and build vehicles that will comply with emissions standards throughout the vehicle's life span. EPA and Customs and Border Protection (CBP) regulations allow for individuals who are not residents of the United States and who reside outside of the United States to import nonconforming on-highway vehicles (e.g., cars, motorcycles or motor homes) for a period of up to one year for personal use. Applicants are required to provide their name, address, phone number or email and the vehicle identification number (VIN) as part of the application process in order for EPA to provide approval or denial letters to the requestors. The information that will be maintained regarding program participants includes the vehicle owner's name, address, phone number, email address and vehicle identification number (VIN).

The information is contained in computer and paper files at EPA's National Vehicle and Fuel Emissions Laboratory in Ann Arbor, Michigan. Only contractor employees (governed by Privacy Act compliance terms in their contract) and EPA employees administering the program have access to the information contained in the database. Files containing personal information are kept in locked filing cabinets. Physical access to the filing cabinets is limited to authorized personnel employees with building key cards.

Dated: May 7, 2014.
Renee P. Wynn,
Acting Assistant Administrator and Acting Chief Information Officer.

EPA-65

System Name:

Engine and Vehicle Exemptions System (EV-ES)

System Location:

US EPA, 109 T.W. Alexander Drive, Research Triangle Park, NC 27711

Categories of Individuals Covered by the System:

Individuals who apply to the EPA for a nonresident exemption to import a nonconforming on-highway vehicle (e.g., cars, motorcycles or motor homes) for a period of up to one year for personal use.

Categories of Records in the System:

The vehicle owner's name, address, phone number, email address and vehicle identification number (VIN).

Authority for Maintenance of the System (Includes Any Revisions or Amendments):

Title II of the Clean Air Act, (42 U.S.C. 7521 et seq.) provides that the EPA may issue exemptions and exclusions for nonconforming vehicles to enter into the United States.

Purpose(s):

The primary purpose of the system is to collect and maintain the information necessary for EPA to determine if the request for a nonresident exemption meets the criteria established in the regulations implementing this program codified in 40 CFR Parts 85 and 1068. In addition, the information collected is used to contact the requestor if there are questions regarding the request and to subsequently issue an approval or denial letter regarding the request. The information may also be used by CBP and EPA's Office of Enforcement and Compliance Assurance (OECA) to validate that the shipment at the port is valid.

Routine Uses of Records Maintained in the System, Including Categories of Users, and the Purposes of Such Uses:

General routine uses A, F, H, K and L apply to this system. (A detailed description of these routine uses can be found in the Agency's Systems of Records Web site at http://www.epa.gov/privacy/notice/general.htm.)

Policies and Practices for Storing, Retrieving, Accessing, Retaining, and Disposing of Records in the System:

Storage:

Records are maintained on computer disks and tapes at the National Computer Center, Research Triangle Park, North Carolina and at EPA's Office of Transportation and Air Quality (OTAQ), Ann Arbor, MI.

Retrievability:

Records are retrievable by all or part of the person's name, phone number, physical address, or email address.

Safeguards:

—Computer-stored information is protected in accordance with the Agency's security requirements.

—Access to the information in the system is limited to authorized Agency and contractor personnel who administer the program. No external access to the system is provided.

—Any contractor is subject to the Federal Acquisition Regulations (FAR) Privacy Act clauses in its contract with EPA.

Retention and Disposal:

Records stored in this system are subject to Schedule 483.

System Manager(s) and Address:

Holly Pugliese, Compliance Division, Office of Transportation and Air Quality, U.S. Environmental Protection Agency, 2000 Traverwood, Ann Arbor, Michigan 48105; telephone number: 734-214-4288; fax number: 734-214-4869; email address: pugliese.holly@epa.gov.

Notification Procedure:

Any individual who wants to know whether this system of records contains a record about him or her, who wants access to his or her record, or who wants to contest the contents of a record, should make a written request to the EPA FOIA Office, Attn: Privacy Act Officer, MC 2822T, 1200 Pennsylvania Avenue NW., Washington, DC 20460.

Record Access Procedure:

Request for access must be made in accordance with the procedures described in EPA's Privacy Act regulations at 40 CFR part 16. Requesters will be required to provide adequate identification, such as a driver's license, employee identification card, or other identifying document. Additional identification procedures may be required in some instances.

Contesting Records Procedures:

Requests for correction or amendment must identify the record to be changed and the corrective action sought. Complete EPA Privacy Act procedures are described in EPA's Privacy Act regulations at 40 CFR part 16.

Record Source Categories:

There are two sources of information for records stored in the system:

(1) Vehicle Identification Numbers (VINs) provided to EPA by the requestor of the exemption.

(2) Information on the vehicles provided by their owners from potential and actual participants in the program.

System Exempted from Certain Provisions of the Privacy Act:

None.

[FR Doc. 2014-12019 Filed 5-22-14; 8:45 am]

BILLING CODE 6560-50-P